DEPARTMENT OF HEALTH AND HUMAN SERVICES

Agency for Healthcare Research and Quality

Nominations for Members of the U.S. Preventive Services Task Force

AGENCY: Agency for Healthcare Research and Quality (AHRQ), HHS.

ACTION: Notice of nominations.

SUMMARY: The Agency for Healthcare Research and Quality (AHRQ) is inviting nominations of qualified individuals to serve as members on the U.S. Preventive Services Task Force (the Task Force).

AHRQ is now soliciting nominations for members of a standing Task Force. Members will be eligible to serve for three years terms with an option for reappointment. They will meet quarterly for two days in the Washington, DC area and will be responsible for reviewing and commenting on evidence reviews prior to making recommendations. The Task Force will work closely with interested health care organizations. AHRQ particularly encourages nominations of women, members of minority populations, and persons with disabilities. Interested individuals and organizations may nominate one or more qualified persons for membership on the Task Force.

DATES: To be considered for membership on the Task Force, written nominations should be submitted by May 14, 2004.

ADDRESSES: Submit your responses to: Gurvaneet Randhawa, M.D., ATTN: USPSTF Nominations; Center for Primary Care, Prevention, and Clinical Partnerships; Agency for Healthcare Research and Quality; 540 Gaither Road, Rockville, Maryland 20850.

FOR FURTHER INFORMATION CONTACT: Barbara Gordon at BGordon@AHRQ.gov.

Responses will be available for inspection at the Center for Primary Care, Prevention and Clinical Partnerships, telephone (301) 427-1636. weekdays between 8:30 a.m. and 5 p.m. AHRQ will not reply to individual responses, but will consider all nominations in selecting members.

Information regarded as private and personal, such as a nominee's social security number, home and Internet addresses, home telephone and fax numbers, or names of family members will not be disclosed to the public. This is in accord with agency confidentiality policies and Department regulations (45 CFR 5.67).

Basic Nomination Requirements

Each nomination should include a current curriculum vitae and should state that the nominee is willing to serve as a member of the Task Force. AHRQ will ask persons being considered for membership to provide detailed information concerning such matters as financial holdings, consultancies, and research grants or contracts, to permit evaluation of possibly significant conflicts of interest. It is anticipated that approximately 6-10 individuals will be invited to serve on the Task Force over the next two years. (See other important nomination requirements below under Nomination Selection.)

Additional Information about the U.S. Preventive Services Task Force may be obtained by contacting: http://www.ahrq.gov/clinic/supstfix.htm.

SUPPLEMENTARY INFORMATION:

Background

Under Title IX of the Public Health Service Act, AHRQ is charged with enhancing the quality, appropriateness, and effectiveness of health care services and access to such services. AHRQ accomplishes these goals through scientific research and promotion of improvements in clinical practice, including prevention of diseases and other health conditions, and improvements in the organization, financing, and delivery of health care services (42 U.S.C. 299-299c-7 as amended by Pub. L. 106-129 (1999)).

The Task Force is an independent expert panel, first established in 1984 under the auspices of the U.S. Public Health Service. Currently, under AHRQ's authorizing legislation noted above, the Director of AHRQ is responsible for convening the USPSTF to be composed of individuals with appropriate expertise. The mission of the Task Force is to rigorously evaluate the effectiveness of critical preventive services and to formulate recommendations for primary care clinicians regarding the appropriate content of periodic health examinations. The first Task Force concluded its work in 1989 with the publication of the Guide to Clinical Preventive Services (the Guide). A second Task Force, appointed in 1990, concluded its work with the release of the second edition of the Guide in December 1995. Programmatic responsibility for the Task Force was transferred to AHRQ in 1995. The 1996 edition of the Guide, evaluating common screening tests, counseling interventions, immunizations and chemoprophylaxis, is available on the Internet (http://www.ahrq.gov/clinic/uspstfix.htm) and through the U.S. Government Printing Office, (202) 512-1800 (refer to stock 017-001-00525-8). In 1998, members of the third Task Force were appointed for five-year terms. The third Task Force has released its recommendations incrementally. These recommendations can be found http://www.preventiveservices.ahrq.gov. The third Task Force transitioned to a standing Task Force in 2003.

Nomination Selection

Nominations for the Task Force will be selected on the basis of: (1) Clinical expertise in the primary health care of children and/or adults; (2) experience in critical evaluation of research and evidence-based methods; (3) expertise in disease prevention and health promotion; (4) expertise in counseling and behavioral interventions, (5) national recognition for scientific leadership within their field of expertise; (6) ability to work collaboratively with peers; and, (7) no substantial conflicts of interest that would impair the scientific integrity of the work of the Task Force. Some Task Force members without primary health care clinical experience may be selected based on their expertise in methodological issues such as medical decision making, clinical epidemiology, and health economics.

Dated: March 10, 2004.
Carolyn M. Clancy,
Director.

[FR Doc. 04-6342 Filed 3-19-04; 8:45 am]

BILLING CODE 4160-90-M